FEDERAL COMMUNICATIONS COMMISSION

Notice of Public Information Collection(s) Being Reviewed by the Federal Communications Commission, Comments Requested

November 20, 2003.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 30, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0395.

Title: The ARMIS USOA Report (ARMIS Report 43-02); The ARMIS Service Quality Report (ARMIS Report 43-05); and the ARMIS Infrastructure Report (ARMIS Report 43-07).

Report Nos.: ARMIS 43-02, ARMIS 43-05, and ARMIS 43-07.

Type of Review: Revision of a currently approved collection.

Respondents: Business or other for-profit.

Number of Respondents: 51.

Estimated Time Per Response: 5.7-844 hours.

Frequency of Response: Annual reporting requirement and recordkeeping requirement.

Total Annual Burden: 21,004 hours.

Total Annual Cost: N/A.

Needs and Uses: The USOA Report provides the annual results of the carriers' activities for each account of the Uniform System of Accounts. The Service Quality Report provides service quality information in the areas of interexchange access service, installation and repair intervals, local service installation and repair intervals, trunk blockage, and total switch downtime for price cap carriers. The Infrastructure Report provides switch deployment and capabilities data. The ARMIS reports are being revised to further implement and simplify Phase 2 of the ARMIS reporting requirements.

OMB Control No.: 3060-0410.

Title: Forecast of Investment Usage Report and Actual Usage of Investment Report.

Form Nos.: FCC Forms 495A and 495B.

Type of Review: Revision of a currently approved collection.

Respondents: Business or other for-profit.

Number of Respondents: 192.

Estimated Time Per Response: 40 hours.

Frequency of Response: Annual reporting requirement.

Total Annual Burden: 7,680 hours.

Total Annual Cost: N/A.

Needs and Uses: The Forecast of Investment Usage and Actual Usage of Investment Reports are needed to detect and correct forecast errors that could lead to significant misallocation of network plant between regulated and non-regulated activities. FCC's purpose is to protect the regulated ratepayer from subsidizing the non-regulated activities of rate regulated telephone companies. Local exchange carriers file the annual reports based on study areas.

OMB Control No.: 3060-0496.

Title: The ARMIS Operating Data Report.

Report No.: ARMIS 43-08.

Type of Review: Revision of a currently approved collection.

Respondents: Business or other for-profit.

Number of Respondents: 55.

Estimated Time Per Response: 139 hours.

Frequency of Response: Annual reporting requirement.

Total Annual Burden: 7,627 hours.

Total Annual Cost: N/A.

Needs and Uses: The ARMIS Operating Data Report collects annual statistical data in a consistent format that is essential for the Commission to monitor growth, usage and reliability. The ARMIS reports are being revised to further implement and simplify Phase 2 of the ARMIS reporting requirements.

OMB Control No.: 3060-0511.

Title: The ARMIS Access Report.

Report No.: ARMIS 43-04.

Type of Review: Revision of a currently approved collection.

Respondents: Business or other for-profit.

Number of Respondents: 84.

Estimated Time Per Response: 153 hours.

Frequency of Response: Annual reporting requirement.

Total Annual Burden: 12,852 hours.

Total Annual Cost: N/A.

Needs and Uses: The ARMIS Access Report is needed to administer the Commission's accounting, jurisdictional separations and access charge rule; to analyze revenue requirements and rates of return, and to collect financial data from Tier 1 incumbent local exchange carriers. The ARMIS reports are being revised to further implement and simplify Phase 2 of the ARMIS reporting requirements.

OMB Control No.: 3060-0512.

Title: The ARMIS Annual Summary Report.

Report No.: ARMIS 43-01.

Type of Review: Revision of a currently approved collection.

Respondents: Business or other for-profit.

Number of Respondents: 119.

Estimated Time Per Response: 89 hours.

Frequency of Response: Annual reporting requirement.

Total Annual Burden: 10,591 hours.

Total Annual Cost: N/A.

Needs and Uses: The ARMIS Annual Summary Report contains financial and operating data and is used to monitor the incumbent local exchange carrier industry and to perform routine analyses of cost and revenues on behalf of the Commission. The ARMIS reports are being revised to further implement and simplify Phase 2 of the ARMIS reporting requirements.

OMB Control No.: 3060-0513.

Title: The ARMIS Joint Cost Report.

Report No.: ARMIS 43-03.

Type of Review: Revision of a currently approved collection.

Respondents: Business or other for-profit.

Number of Respondents: 85.

Estimated Time Per Response: 50 hours.

Frequency of Response: Annual reporting requirement.

Total Annual Burden: 4,250 hours.

Total Annual Cost: N/A.

Needs and Uses: The ARMIS Joint Cost Report is needed to administer the Commission's joint cost rules (Part 64) and to analyze data in order to prevent cross-subsidization of non-regulated operations by the regulated operations of Tier 1 carriers. The ARMIS reports are being revised to further implement and simplify Phase 2 of the ARMIS reporting requirements.

Federal Communications Commission.
Marlene H. Dortch,
Secretary.

[FR Doc. 03-29813 Filed 11-28-03; 8:45 am]

BILLING CODE 6712-01-P